SECURITIES AND EXCHANGE COMMISSION

[SEC File No. 270-21, OMB Control No. 3235-0025]

Submission for OMB Review; Comment Request; Extension: Rule 30e-1

Upon Written Request, Copies Available From: Securities and Exchange Commission, Office of FOIA Services, 100 F Street NE, Washington, DC 20549-2736

Notice is hereby given that, under the Paperwork Reduction Act of 1995 (44 U.S.C. 3501 et seq.) (“Paperwork Reduction Act”), the Securities and Exchange Commission (the “Commission”) has submitted to the Office of Management and Budget (“OMB”) a request for extension of the previously approved collection of information discussed below.

Rule 30e-1 (17 CFR 270.30e-1) under the Investment Company Act of 1940 (15 U.S.C. 80a-1 et seq.) (“Investment Company Act”) generally requires a registered investment company (“fund”) to transmit to its shareholders, at least semi-annually, reports containing the information that is required to be included in such reports by the fund's registration statement form under the Investment Company Act. The purpose of the collection of information required by rule 30e-1 is to provide fund shareholders with current information about the operation of their funds in accordance with Section 30 of the Investment Company Act.

Approximately 2,490 funds, with a total of approximately 10,750 portfolios, respond to rule 30e-1 annually. Based on conversations with fund representatives, we estimate that it takes approximately 84 hours to comply with the collection of information associated with rule 30e-1 per portfolio. This time is spent, for example, preparing, reviewing, and certifying the reports. Accordingly, we calculate the total estimated annual internal burden of responding to rule 30e-1 to be approximately 903,000 hours (84 hours × 10,750 portfolios). In addition to the burden hours, based on conversations with fund representatives, we estimate that the total cost burden of compliance with the information collection requirements of rule 30e-1 is approximately $31,061 per portfolio. This includes, for example, the costs for funds to prepare, print, and mail the reports. Accordingly, we calculate the total external cost burden associated with rule 30e-1 to be approximately $333,905,750.

Estimates of the average burden hours are made solely for the purposes of the Paperwork Reduction Act and are not derived from a comprehensive or even representative survey or study of the costs of Commission rules and forms. The collection of information under rule 30e-1 is mandatory. The information provided under rule 30e-1 will not be kept confidential. An agency may not conduct or sponsor, and a person is not required to respond to, a collection of information unless it displays a currently valid OMB control number.

The public may view background documentation for this information collection at the following website: www.reginfo.gov. Find this particular information collection by selecting “Currently under 30-day Review—Open for Public Comments” or by using the search function. Written comments and recommendations for the proposed information collection should be sent within 30 days of publication of this notice by August 30, 2023 to (i) MBX.OMB.OIRA.SEC_desk_officer@omb.eop.gov and (ii) David Bottom, Director/Chief Information Officer, Securities and Exchange Commission, c/o John Pezzullo, 100 F Street NE, Washington, DC 20549, or by sending an email to: PRA_Mailbox@sec.gov.

Dated: July 25, 2023.
J. Matthew DeLesDernier,
Deputy Secretary.

[FR Doc. 2023-16100 Filed 7-28-23; 8:45 am]

BILLING CODE 8011-01-P